GULF COAST ECOSYSTEM RESTORATION COUNCIL

[Docket No. 112072016-1111-08]

Supplemental Notice Extending the Application Deadline for the Funded Priorities List

AGENCY: Gulf Coast Ecosystem Restoration Council.

ACTION: Notice.

SUMMARY: Through this Federal Register notice (FRN), the Gulf Coast Ecosystem Restoration Council (Council) announces it is extending the deadline for Council members to submit applications to implement projects and programs approved on the 12/09/2015 Funded Priorities List (FPL) Addendum to the Initial Comprehensive Plan. Applications do not have to be submitted by December 31, 2016 and instead will be accepted on a rolling basis.

SUPPLEMENTARY INFORMATION: On December 31, 2015, the Council published an FRN (80 FR 81819) inviting Council members to apply for funding under the Council-Selected Restoration Component of the Resources and Ecosystems Sustainability, Tourist Opportunities, and Revived Economies of the Gulf Coast States Act of 2012 (RESTORE Act) (33 U.S.C. 1321(t)(2)) to implement projects and programs approved on the 12/09/2015 FPL Addendum to the Initial Comprehensive Plan. The December 31, 2015 FRN specified that applications were due by December 31, 2016. Through this notice, the Council announces that the deadline for applications is no longer December 31, 2016 and that applications will now be accepted on a rolling basis and are still to be submitted through the Restoration Assistance and Awards Management System (RAAMS). This notice does not change any other portion of the December 31, 2015 FRN inviting applications.

Will D. Spoon,
Program Analyst, Gulf Coast Ecosystem Restoration Council.

[FR Doc. 2016-29369 Filed 12-6-16; 8:45 am]

BILLING CODE 6560-58-P